ENVIRONMENTAL PROTECTION AGENCY

[EPA-HQ-OW-2020-0530; FRL 12558-01-OMS]

Agency Information Collection Activities; Submission to the Office of Management and Budget for Review and Approval; Comment Request; Unregulated Contaminant Monitoring Rule (UCMR 5) (Renewal)

AGENCY: Environmental Protection Agency (EPA).

ACTION: Notice.

SUMMARY: The Environmental Protection Agency (EPA) has submitted an information collection request (ICR), Unregulated Contaminant Monitoring Rule (UCMR 5) (EPA ICR Number 2683.03, OMB Control Number 2040-0304) to the Office of Management and Budget (OMB) for review and approval in accordance with the Paperwork Reduction Act. This is a proposed extension of the original UCMR 5 ICR, which is currently approved through January 31, 2025. Public comments on the ICR renewal were previously requested during a 60-day comment period via the Federal Register on July 30, 2024. This notice allows for an additional 30 days for public comments.

DATES: Comments may be submitted on or before February 18, 2025.

ADDRESSES: Submit your comments, referencing Docket ID Number EPA-HQ-OW-2020-0530, to EPA online using www.regulations.gov (our preferred method), or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Brenda Bowden, Standards and Risk Management Division, Office of Ground Water and Drinking Water (MS 140), Environmental Protection Agency, 26 West Martin Luther King Drive, Cincinnati, Ohio 45268; telephone number: (513) 569-7961; email address: bowden.brenda@epa.gov.

SUPPLEMENTARY INFORMATION: This is a proposed extension of the ICR, which is currently approved through January 31, 2025. An agency may not conduct or sponsor and a person is not required to respond to a collection of information unless it displays a currently valid OMB control number.

Public comments on the ICR renewal were previously requested during a 60-day comment period via the Federal Register on July 30, 2024 (89 FR 61112). This notice allows for an additional 30 days for public comments. Supporting documents, which explain in detail the information that EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: Section 1445(a)(2) of the Safe Drinking Water Act (SDWA) requires that once every five years, beginning in 1999, EPA issue a new list of not more than 30 priority unregulated contaminants in drinking water to be monitored by public water systems (PWSs). Information collected under the program informs EPA's decision making regarding whether or not to regulate particular contaminants in drinking water. UCMR 5 requires monitoring for 30 chemical contaminants and was published in the Federal Register on December 27, 2021 (86 FR 73131). The information collection associated with UCMR 5 does not require respondents to disclose confidential information.

Form Numbers: None.

Respondents/affected entities: Data associated with this ICR will be collected and maintained by PWSs subject to the rule. UCMR is a federally-implemented program; however, States, territories, and Tribes (herein after referred to as “States” for simplicity) can choose to participate in UCMR 5 implementation through a Partnership Agreement with EPA. These States will sometimes choose to collect samples and maintain records on behalf of PWSs.

Respondent's obligation to respond: Mandatory (section 1445(a) of SDWA).

Estimated number of respondents: Approximately 3,493 respondents (total among PWSs and States) participate in UCMR 5 sample collection during the ICR years 2025-2027. There are approximately 10,367 respondents to UCMR 5 during the five-year program period.

Frequency of response: The frequency and number of responses varies across respondents. PWSs that rely on surface water and ground water under the direct influence of surface water will sample quarterly (four sampling events), and PWSs that rely on ground water will sample twice (at 6-month intervals). All sample collection will take place during a continuous 12-month period during the sampling timeframe. UCMR 5 sampling takes place at the entry point to the distribution system (EPTDS). The number of samples collected by PWSs also differs based on the size of the PWS, and the number of entry points within each PWS. Over the three ICR years of 2025 through 2027, the total number of responses per respondent averages 3.0, or an average of 1.0 responses per respondent per year.

Total estimated burden: EPA estimates the labor burden at 21,275 hours (per year) during the ICR renewal years of 2025 through 2027 for States and PWSs. Burden is defined at 5 CFR 1320.03(b).

Total estimated cost: During the ICR renewal years of 2025 through 2027, EPA estimates the total cost for States and PWSs at $5,633,415 (per year), which includes $4,702,003 annualized capital or operation & maintenance costs. The total costs include labor costs and laboratory analysis (non-labor) costs. EPA pays for the analytical and sample shipping costs for small PWSs (i.e., serving 10,000 or fewer people).

Changes in the Estimates: There is a decrease of 27,193 hours in the total estimated respondent burden for PWSs and States during the ICR renewal years of 2025 through 2027 compared with the original UCMR 5 ICR currently approved by OMB. This decrease is due to:

• Fewer PWSs participate during the ICR renewal period of 2025-2027 than in 2022-2024 period addressed by the original ICR. Only one-third of PWSs monitor for UCMR 5 contaminants in 2025-2027; two-thirds of PWS will have monitored for UCMR 5 contaminants in 2023 or 2024.

• Some initial, pre-monitoring activities were conducted by all systems during the original ICR period. These activities will not take place during 2025-2027.

• States are expected to incur less burden during 2025-2027, since their support is associated with monitoring and less monitoring is occuring during the renewal period.

Courtney Kerwin,
Director, Regulatory Support Division.

[FR Doc. 2025-01038 Filed 1-15-25; 8:45 am]

BILLING CODE 6560-50-P